DEPARTMENT OF ENERGY

Federal Energy Regulatory Commission

Combined Notice of Filings #1

Take notice that the Commission received the following electric rate filings:

Docket Numbers: ER20-554-001.

Applicants: Southwest Power Pool, Inc.

Description: Tariff Amendment: 3517R2 Plum Creek Wind, LLC GIA—Amended Filing to be effective 11/27/2019.

Filed Date: 1/10/20.

Accession Number: 20200110-5199.

Comments Due: 5 p.m. ET 1/31/20.

Docket Numbers: ER20-683-001.

Applicants: Tri-State Generation and Transmission Association, Inc.

Description: Tariff Amendment: Amendment to Reflect the Correct Effective Date of Selected Contracts to be effective 3/23/2020.

Filed Date: 1/10/20.

Accession Number: 20200110-5170.

Comments Due: 5 p.m. ET 1/21/20.

Docket Numbers: ER20-694-001.

Applicants: Tri-State Generation and Transmission Association, Inc.

Description: Tariff Amendment: Amendment to Rate Schedule No. 102 to be effective 3/23/2020.

Filed Date: 1/10/20.

Accession Number: 20200110-5180.

Comments Due: 5 p.m. ET 1/21/20.

Docket Numbers: ER20-764-000.

Applicants: Southern California Edison Company.

Description: Tariff Cancellation: Cancel GIA and Service Agreements PPD-SPVP 044-12 KV Dexus Project to be effective 11/30/2019.

Filed Date: 1/9/20.

Accession Number: 20200109-5218.

Comments Due: 5 p.m. ET 1/30/20.

Docket Numbers: ER20-765-000.

Applicants: Midcontinent Independent System Operator, Inc., American Transmission Company LLC.

Description: Midcontinent Independent System Operator, Inc. submits tariff filing per 35.13(a)(2)(iii: 2018-01-10_Termination of SA 3154 ATC-ACEC PCA (Hancock) to be effective 1/11/2020.

Filed Date: 1/10/20.

Accession Number: 20200110-5012.

Comments Due: 5 p.m. ET 1/31/20.

Docket Numbers: ER20-766-000.

Applicants: PJM Interconnection, L.L.C.

Description: PJM Interconnection, L.L.C. submits tariff filing per 35.13(a)(2)(iii: Amendment to Original ISA, SA No. 5448; Queue No. AD2-070 (amend) to be effective 7/9/2019.

Filed Date: 1/10/20.

Accession Number: 20200110-5077.

Comments Due: 5 p.m. ET 1/31/20.

Docket Numbers: ER20-767-000.

Applicants: Alabama Power Company.

Description: § 205(d) Rate Filing: RE Limestone LGIA Filing to be effective 1/6/2020.

Filed Date: 1/10/20.

Accession Number: 20200110-5079.

Comments Due: 5 p.m. ET 1/31/20.

Docket Numbers: ER20-768-000.

Applicants: Midcontinent Independent System Operator, Inc., ITC Midwest LLC.

Description: § 205(d) Rate Filing: 2020-01-10_SA 3398 ITC-MEC FSA (J498 J499 J500) to be effective 3/11/2020.

Filed Date: 1/10/20.

Accession Number: 20200110-5101.

Comments Due: 5 p.m. ET 1/31/20.

Docket Numbers: ER20-769-000.

Applicants: Midcontinent Independent System Operator, Inc., ITC Midwest LLC.

Description: § 205(d) Rate Filing: 2020-01-10_SA 3399 ITC-Duane Arnold Solar FSA (J504) to be effective 3/11/2020.

Filed Date: 1/10/20.

Accession Number: 20200110-5102.

Comments Due: 5 p.m. ET 1/31/20.

Docket Numbers: ER20-770-000.

Applicants: PJM Interconnection, L.L.C.

Description: § 205(d) Rate Filing: Amendment to ISA, SA No. 5222; Queue No. AB2-169 (amend) to be effective 10/2/2018.

Filed Date: 1/10/20.

Accession Number: 20200110-5121.

Comments Due: 5 p.m. ET 1/31/20.

Docket Numbers: ER20-771-000.

Applicants: ITC Midwest LLC.

Description: § 205(d) Rate Filing: Filing of Cardinal-Hickory Creek Owners' Coordination Agreement to be effective 3/11/2020.

Filed Date: 1/10/20.

Accession Number: 20200110-5138.

Comments Due: 5 p.m. ET 1/31/20.

Take notice that the Commission received the following qualifying facility filings:

Docket Numbers: QF20-499-000.

Applicants: Baxter Senior Living, LLC.

Description: Form 556 of Baxter Senior Living, LLCW.

Filed Date: 1/10/20.

Accession Number: 20200110-5127.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2020.
Kimberly D. Bose,
Secretary.

[FR Doc. 2020-00619 Filed 1-15-20; 8:45 am]

BILLING CODE 6717-01-P